DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of November 22, 2010 through November 26, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
73,821 | Shaw Diversified, Plant LW, 07, Head Surfaces, Leased Workers From Select Staffing | Algona, WA | March 26, 2009.
73,828 | GKN Axles Jackson Center, GKN Armstrong Wheels, Leased Workers from Staffmark | Jackson Center, OH | March 31, 2009.
73,880 | Weston Wear Inc | San Francisco, CA | April 2, 2009.
74,015 | Hutchins and Perreault, Inc. | East Barre, VT | April 27, 2009.
74,533 | Belding Hausman, Inc | Lincolnton, NC | August 13, 2009.
74,584 | Sylvan America, Inc., Sylvan, Inc.; Leased Workers from Adecco Employment Services | Kittanning, PA | September 1, 2009.
74,638 | Western Refining Yorktown, Inc., Leased Workers from Headway Staffing | Grafton, VA | September 10, 2009.

The following certifications have been issued. The requirements of Section 222(a)(2)(B) (shift in production or services) of the Trade Act have been met.

TA-W No. | Subject firm | Location | Impact date
74,175 | JPMorgan Chase, Card Services Division | Frederick, MD | June 1, 2009.
74,540 | BMC Software, Inc., Leased Workers from Comsys ITS | Houston, TX | July 22, 2009.
74,553 | Fiserv, Inc | Owings Mills, MD | August 18, 2009.
74,560 | Wyman Gordon Forgings, Precision Cast Parts, Machining Division | Houston, TX | August 20, 2009.
74,610 | Ocwen Loan Servicing, LLC, Workers Whose Wages Were Reported Under Homeq Servicing | North Highlands, CA | September 7, 2009.
74,696 | Motorola, Inc., CDMA Messaging Product Group | Arlington Heights, IL | September 22, 2009.
74,823 | Hartford Financial Service Group, Inc., EIT/CCM/Technology Shared Services | Hartford, CT | November 1, 2009.
74,823A | Hartford Financial Service Group, Inc., EIT/CCM/Technology Shared Services | Southington, CT | November 1, 2009.
74,823B | Hartford Financial Service Group, Inc., EIT/CCM/SMS (BI) | Hartford, CT | November 1, 2009.
74,823C | Hartford Financial Service Group, Inc., EIT/CCM/SMS (BI) | Windsor, CT | November 1, 2009.
74,823D | Hartford Financial Service Group, Inc., EIT/TSS/L2 Help Desk | Hartford, CT | November 1, 2009.
74,823E | Hartford Financial Service Group, Inc., EIT/CCM/Claims | Hartford, CT | November 1, 2009.
74,823F | Hartford Financial Service Group, Inc., EIT/TSS/CITS | Hartford, CT | November 1, 2009.
74,823G | Hartford Financial Service Group, Inc., EIT/CCM/Reinsurance Accounting | Hartford, CT | November 1, 2009.

The following certifications have been issued. The requirements of Section 222(c) (supplier to a firm whose workers are certified eligible to apply for TAA) of the Trade Act have been met.

TA-W No. | Subject firm | Location | Impact date
73,581 | Dell Products LP, Dell, Inc., East Coast Fulfillment Center | Nashville, TN | February 16, 2009.

Negative Determinations for Worker Adjustment Assistance

In the following cases, the investigation revealed that the eligibility criteria for worker adjustment assistance have not been met for the reasons specified.

The investigation revealed that the criteria under paragraphs(a)(2)(A) (increased imports) and (a)(2)(B) (shift in production or services to a foreign country) of section 222 have not been met.

TA-W No. | Subject firm | Location | Impact date
73,351 | Sandy Alexander | Clifton, NJ |
73,615 | Smurfit-Stone Container Corporation, Container Division | Jefferson, OH |
74,626 | Newell Window Furnishings, Inc., Newell Rubbermaid, Inc. | Athens, GA |
74,681 | Tower-OHL | Jacksonville, FL |
74,724 | International Business Machines (IBM), Global Technology Services Delivery, Band 7 Oracle, Off-Site Teleworkers | Endicott, NY |

I hereby certify that the aforementioned determinations were issued during the period of November 22, 2010 through November 26, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: December 1, 2010.
Elliott S. Kushner,
Certifying Officer, Division of Trade Adjustment Assistance.

[FR Doc. 2010-30750 Filed 12-7-10; 8:45 am]

BILLING CODE 4510-FN-P